DEPARTMENT OF ENERGY

Federal Energy Regulatory Commission

[Docket No. CP01-381-000]

Kern River Gas Transmission Company; Notice on Petition for Declaratory Order

June 8, 2001.

On June 1, 2001, Kern River Gas Transmission Company (Kern River) filed a petition for a declaratory order by the Commission addressing capacity commitments made by Kern River in connection with facilities authorized by the Commission in Docket No. CP01-106-000. This issue arises in light of assertions by Southern California Gas Company (SoCalGas) that Kern River has not satisfied its obligations to SoCalGas under a June 15, 1989 Settlement Agreement. Kern River's filing may be viewed on the web at http://www.ferc.fed.us/online/rims.htm (call 202-208-2222 for assistance).

On April 6, 2001, the Commission authorized Kern River to construct the California Action Project, which will increase Kern River's design-day mainline capacity by 135,000 Mcf. This additional capacity was alloca5ted as a result of an open season Kern River conducted in march 2001; Kern River ultimately entered into transportation service agreements with 43 shippers as a result of the open season. Kern River intends to commence service using the California Action Project in July 2001.

SoCalGas asserts that, pursuant to a June 15, 1989 Settlement Agreement, Kern River has certain obligations to SoCalGas in the event Kern River intends to add incremental capacity to its system in excess of 700 Mcf. SoCalGas asserts that Kern River must provide it with written notice of intent to add capacity, and must notify SoCalGas of the amount of capacity available after it has awarded any capacity to Enhanced Oil Recovery and congeneration shippers who were granted prior rights under the Settlement Agreement. After such notice is provided, SoCalGas asserts that it must be given 30 days to evaluate whether it wants to contract for such capacity pursuant to Kern River's standard tariff terms and conditions. SoCalGas states that if it had been given this opportunity it would have elected all of the available capacity in the California Action Plan and potentially some or all of the capacity offered in other open seasons Kern River has conducted with regard to proposed future expansions. SoCalGas has inquired how Kern River intends to comply with its obligations under the Settlement Agreement. Kern River requests that the Commission declare that Kern River has no obligation under the 1989 Settlement Agreement to provide SoCalGas any preferential notice of, or opportunity to elect, any of the capacity on Kern River's pending expansions.

There are two ways to become involved in the Commission's review of this petition. First, any person wishing to obtain legal status by becoming a party to the proceeding should on or before June 15, 2001, file with the Federal Energy Regulatory Commission, 888 First Street, NE., Washington, DC 20426, a motion to intervene in accordance with the requirements of the Commission's Rules of Practice and Procedure (18 CFR 385.214 or 385.211) and the Regulations under the Natural Gas Act (18 CFR 157.10).

A person obtaining party status will be placed on the service list maintained by the Secretary of the Commission and will receive copies of all documents filed by the applicant and by all other parties, A party must submit 14 copies of filings made with the Commission and must mail a copy to the applicants and to every other party in the proceeding. Only parties to the proceeding can ask for court review of Commission orders in the proceeding.

However, a person does not have to intervene in order to have comments considered. The second way to participate is by filing with the Secretary of the Commission, by June 15, 2001, an original and two copies of the comments in support of or in opposition to matters raised in the petition. The Commission will consider these comments in determining the appropriate action to be taken, but the filing of a comment will not serve to make the filer a party to the proceeding. The Commission's rules require that person filing comments in opposition provide copies of their protests only to the party or parties directly involved in the protest.

Comments, protests and interventions may be filed electronically via the internet in lieu of paper. See 18 CFR 2001(a)(1)(iii) and the instructions on the Commission's web site at http://www.ferc.fed.us/efi/doorbell.htm.

David P. Boergers,
Secretary.

[FR Doc. 01-14996 Filed 6-13-01; 8:45 am]

BILLING CODE 6717-01-M